DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before August 14, 2025.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: (1) Motor vehicle, (2) Rail freight, (3) Cargo vessel, (4) Cargo aircraft only, (5) Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on July 9, 2025.
Donald P. Burger,
Chief, General Approvals and Permits Branch.

Special Permits Data
Application No. | Applicant | Regulation(s) affected | Nature of the special permits thereof
22037-N | Bhiwadi Cylinders Private Limited | 173.304(d), 178.33d-2(a), 178.33d-2(b) | To authorize the manufacture, mark, sale, and use of non-DOT specification inner receptacles similar to 2Q Variation 1 inner receptacles but with a larger diameter and increased working pressure. (modes 1, 2, 3, 4, 5).
22039-N | U.S. Bureau of Customs and Border Protection | 172.300, 172.400, 173.25, 175.75 | To authorize the transportation in commerce of radiation detection survey meters, manufactured under DOT-SP 13187, containing Division 2.2 compressed gas in the passenger compartment of commercial aircraft. (mode 5).
22040-N | Chemical Systems Inc. | 172.400(a), 173.132(a) | To authorize the transportation in commerce of a Division 6.1 poisonous material that has been reclassified, marked, labeled and placarded as a Class 8 corrosive hazardous material. (mode 1).
22042-N | Jaguar Land Rover Limited | 172.102(c)(2) | To authorize the transportation in commerce of lithium-ion batteries that exceed 35 kg net weight aboard cargo-only aircraft. (mode 4).
22043-N | Fibro Plastichem (India) Private Limited | 107.503(b), 172.102(c)(3), 172.203(a), 173.241(b), 173.242(b), 173.243(b), 178.347-1(a), 178.348-1(a), 178.345-1(a) | To authorize the manufacture, mark, sale and use of non-DOT specification cargo tank motor vehicles constructed from glass fiber reinforced plastics (GFRP) conforming with all regulations applicable to a DOT 407 or DOT 412 cargo tank motor vehicle for the transportation in commerce of the hazardous materials listed in the special permit. (mode 1).
22046-N | Air Liquide Electronics U.S. LP | 171.23(a) | To authorize the one-time transportation in commerce of non-DOT specification cylinders manufactured to a foreign specification that contain dichlorosilane (UN2189) for testing. (mode 1).
22048-N | EnergySolutions, LLC | 173.427(a)(1), 173.465(c), 173.465(d) | To authorize the transportation in commerce of radioactive materials that exceed the external dose rate and have not passed the drop and stack test requirements for Type A packagings. (modes 1, 2, 3).
22049-N | COMPTANK Corp. | 107.503(b), 172.102(c)(3), 172.203(a), 173.241(b), 173.242(b), 173.243(b), 178.345-1(a)178.347-1(a), 178.348-1(a), | To authorize the manufacture, mark, sale and use of non-DOT specification cargo tank motor vehicles constructed from Graphite Filament Wound Roving conforming with all regulations applicable to a DOT 407 or DOT 412 cargo tank motor vehicle except those pertaining to material of construction. (mode 1).
22050-N | American Traffic Safety Services Association, Inc. | 173.5a(c)(2)(i), 173.5a(c)(2)(ii), 173.5a(c)(2)(vi), 173.5a(c)(3) | To authorize the transportation in commerce of non-DOT specification cargo tanks used for roadway striping that do not meet the design and requalification requirements outlined in 49 CFR 173.5a(c)(2). (mode 1).
22051-N | SciSafe Inc. | 173.199(a)(4) | To authorize the transportation in commerce of Category B biological substances in freezers that are not capable of passing the specified drop test specified in § 173.199(a)(4). (mode 1).
22052-N | Northrop Grumman Systems Corporation | 172.203(a), 172.301(c), 173.302a(a)(1), 173.304a(a)(1) | To authorize the transportation in commerce of cylinders manufactured under DOT-SP 8162 beyond their 15-year service life. (modes 1, 4).
22055-N | HII Unmanned Systems, Inc. | 172.101(j) | To authorize the transportation in commerce of lithium-ion batteries that exceed 35 kg net weight aboard cargo-only aircraft. (mode 4).
22056-N | Plastipak Packaging, Inc. | 172.203(a), 178.33b-8, 178.33b-8(a), 178.33b-8(a)(1), 178.33b-8(a)(2) | To offer non-flammable, non-toxic compressed gases (Division 2.2) in DOT Specification 2S and non-DOT specification aerosols not exceeding 1L capacity which are burst tested one out of each lot of 24,000 containers or less (about once per 30 minutes of can production) under a quality management approach. (modes 1, 2, 3, 4, 5).
22058-N | United Industries Corporation | 173.156(b)(2)(iii) | To authorize the transportation in commerce of limited quantities in excess of the 30 kg (66 pounds) gross weight limitation when transported by highway or rail between a manufacturer, a distribution center, and a retail outlet within strong outer packagings other than fiberboard boxes. (modes 1, 2).
22059-N | The Boeing Company | 173.219(c)(5) | To authorize the transportation in commerce of life-saving appliances in overpacks that may exceed a gross weight of 40 kg provided the net weight of hazardous materials within the overpack does not exceed 5 kg. (mode 1).
22060-N | U.S. Department of Energy | 173.410, 173.411, 173.416, 173.431, 173.471, 178.603, 178.608 | To authorize the one-time, one way transportation of the USDA Natick Irradiator, a cesium-137 irradiator from the USDA Eastern Regional Research Center (ERRC), Wyndmoor, Pennsylvania, to the Nevada National Security Site (NNSS) for disposal using alternative packaging. (mode 1).
22062-N | Gas Transport Leasing—GTL, LLC | 173.301(f), 173.301(g) | To authorize the transportation in commerce of compressed hydrogen in module assemblies containing non-DOT specification carbon fiber reinforced composite cylinders manufactured under DOT-SP 14576 without pressure relief devices. (mode 1).

[FR Doc. 2025-13235 Filed 7-14-25; 8:45 am]

BILLING CODE 4910-60-P